DEPARTMENT OF HEALTH AND HUMAN SERVICES

National Institutes of Health

Announcement of Availability of the Fourteenth Report on Carcinogens

SUMMARY: The Department of Health and Human Services released the 14th Report on Carcinogens (RoC) to the public on November 3, 2016. The report is available on the RoC Web site at: http://ntp.niehs.nih.gov/go/roc or from the Office of the RoC (see ADDRESSES).

DATES: The 14th RoC is available to the public on November 3, 2016.

ADDRESSES: Dr. Ruth Lunn, Director, Office of the RoC, National Toxicology Program (NTP), National Institute of Environmental Health Sciences (NIEHS), P.O. Box 12233, MD K2-14, Research Triangle Park, NC 27709; telephone: (919) 316-4637; FAX: (301) 480-2970; lunn@niehs.nih.gov.

FOR FURTHER INFORMATION CONTACT: Questions or comments concerning the 14th RoC should be directed to Dr. Lunn (see ADDRESSES).

SUPPLEMENTARY INFORMATION:

Background Information on the RoC

The RoC is a congressionally mandated document that identifies and discusses agents, substances, mixtures, or exposure circumstances (collectively referred to as “substances”) that may pose a hazard to human health because of their carcinogenicity. Substances are listed in the report as either known or reasonably anticipated to be human carcinogens. The listing of a substance in the RoC indicates a potential hazard, but does not establish the exposure conditions that pose a cancer hazard to individuals in their daily lives. For each listed substance, the RoC provides information from cancer studies that support the listing, as well as information about potential sources of exposure and current federal regulations to limit exposures. Each edition of the RoC is cumulative, that is, it lists newly reviewed substances in addition to substances listed in the previous edition. Information about the RoC is available on the RoC Web site (http://ntp.niehs.nih.gov/go/roc) or by contacting Dr. Lunn (see ADDRESSES).

NTP prepares the RoC on behalf of the Secretary of Health and Human Services. For the 14th RoC, NTP followed an established, multi-step process with multiple opportunities for public input, and used established criteria to evaluate the scientific evidence on each candidate substance under review (http://ntp.niehs.nih.gov/go/rocprocess).

New Listings in the 14th RoC: The 14th RoC contains 248 listings, some of which consist of a class of structurally related chemicals or agents. There are six new listings and one revised listing in this edition. The revised listing is for trichloroethylene, which was previously listed as reasonably anticipated to be a human carcinogen and is now listed as known to be a human carcinogen. Five of the new listings are in the category of known to be a human carcinogen: Epstein Bar virus, Kaposi sarcoma-associated herpesvirus, human T-cell lymphotropic virus type 1, human immunodeficiency virus-type 1, and Merkel cell polyomavirus. The new listing in the category of reasonably anticipated to be a human carcinogen is for cobalt and cobalt compounds that release cobalt ions in vivo.

Dated: October 25, 2016.
Linda S. Birnbaum,
Director, National Institute of Environmental Health Science and National Toxicology Program.

[FR Doc. 2016-26604 Filed 11-2-16; 8:45 am]

BILLING CODE 4140-01-P